DEPARTMENT OF HEALTH AND HUMAN SERVICES

Centers for Medicare and Medicaid Services

[Document Identifier: CMS-R-185, CMS 10131, CMS-10054 and CMS-R-50]

Agency Information Collection Activities: Proposed Collection; Comment Request

AGENCY: Centers for Medicare and Medicaid Services.

In compliance with the requirement of section 3506(c)(2)(A) of the Paperwork Reduction Act of 1995, the Centers for Medicare and Medicaid Services (CMS) (formerly known as the Health Care Financing Administration (HCFA)), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension of a currently approved collection; Title of Information Collection: Granting and Withdrawal of Deeming Authority to Private Nonprofit Accreditation Organizations and of State Exemption Under State Laboratory Programs and Supporting Regulations in 42 CFR 493.551-493.557; Use: The information required is necessary to determine whether a private accreditation organization's or State licensure program's standards and accreditation/licensure process is equal to or more stringent than those of CLIA. Form Number: CMS-R-185 (OMB#: 0938-0686); Frequency: Initial application and as needed; Affected Public: Not-for-profit institutions, Business or other for-profit and State, Local, or Tribal Government; Number of Respondents: 8; Total Annual Responses: 76; Total Annual Hours: 768.

2. Type of Information Collection Request: New Collection; Title of Information Collection: Evaluation of Medicare Disease Management Demonstrations; Form No.: CMS-10131 (OMB# 0938-NEW); Use: CMS contracted with Mathematic Policy Research, Inc. (MPR) for the evaluation of disease management programs. The purpose of the patient survey is to assess the impact of disease management and prescription drug benefits on patient health, functioning status, care satisfaction, health behaviors and knowledge of condition. Data from the physician survey will be used to assess physician satisfaction with disease management services, physician perceptions of the impact of disease management on patient outcomes, education and service use, and the impact of disease management programs on physician practices and office workload.; Frequency: On Occasion; Affected Public: Individuals or households, Business or other for-profit; Number of Respondents: 5000; Total Annual Responses: 2500; Total Annual Hours: 1625.

3. Type of Information Collection Request: Extension of a currently approved collection; Title of Information Collection: Recognition of Payment for New Technology Services for Ambulatory Payment Classifications (APCs) under the Outpatient Prospective Payment System and Supporting Regulations in 42 CFR, 413.65 and 419.42; Form No.: CMS-10054 (OMB# 0938-0860); Use: Information is necessary to determine services eligible for payment in new technology ambulatory payment classifications (APCs) in the outpatient prospective payment system; Frequency: On Occasion; Affected Public: Business or other for-profit; Number of Respondents: 15; Total Annual Responses: 15; Total Annual Hours: 180.

4. Type of Information Collection Request: Extension of a currently approved collection; Title of Information Collection: Medical Records Review under PPS and Supporting Regulations in 42 CFR, Sections 412.40-412.52; Form No.: CMS-R-50 (OMB# 0938-0359); Use: The Quality Improvement Organizations (QIOs) are authorized to conduct medical review activities under the Prospective Payment System (PPS) . In order to conduct these review activites, the agency depends upon hospitals to make available specific records regarding care provided to Medicare beneficiaries. The Clinical Data Abstraction Centers (CDACs) obtain copies of medical records from which they abstract data to analyze patterns of care and outcomes for heart failure/myocardial infarction, pneumonia, diabetes and surgical infection.; Frequency: Other: when records are reviewed; Affected Public: Business or other for-profit, Not-for-profit institutions, Federal Government, and State, Local or Tribal Govt.; Number of Respondents: 6,100; Total Annual Responses: 397,500; Total Annual Hours: 11,925.

To obtain copies of the supporting statement and any related forms for the proposed paperwork collections referenced above, access CMS' Web site address at http://www.cms.hhs.gov/regulations/pra/, or e-mail your request, including your address, phone number, OMB number, and CMS document identifier, to Paperwork@cms.hhs.gov, or call the Reports Clearance Office on (410) 786-1326.

Written comments and recommendations for the proposed information collections must be mailed within 60 days of this notice directly to the CMS Paperwork Clearance Officer designated at the following address: CMS, Office of Strategic Operations and Regulatory Affairs, Division of Regulations Development and Issuances, Attention: Melissa Musotto, Room C5-14-03, 7500 Security Boulevard, Baltimore, Maryland 21244-1850.

Dated: November 5, 2004.
John P. Burke, III,
Paperwork Reduction Act Team Leader, Office of Strategic Operations and Strategic Affairs, Division of Regulations Development and Issuances.

[FR Doc. 04-25250 Filed 11-12-04; 8:45 am]

BILLING CODE 4120-03-P